DEPARTMENT OF THE INTERIOR

Bureau of Land Management

[LLCAC06000.L16100000.DP0000. LXSS095B0000]

Notice of Availability of the Draft Bakersfield Resource Management Plan and Draft Environmental Impact Statement, California

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Resource Management Plan (RMP) and Environmental Impact Statement (EIS) for the Bakersfield Field Office (FO) planning area and by this notice is announcing the opening of the comment period.

DATES: To ensure that comments will be considered, the BLM must receive written comments on the Draft RMP/Draft EIS within 90 days following the date the Environmental Protection Agency publishes this notice of availability in the Federal Register. The BLM will announce future meetings or hearings and any other public participation activities at least 15 days in advance through public notices, media releases, the BLM Web page and/or mailings.

ADDRESSES: You may submit comments related to the Bakersfield Resource Management Plan, including potential designation of areas of critical environmental concern (ACEC), by any of the following methods:

• E-mail: cacalrmp@ca.blm.gov.

• Fax: (661) 391-6143, Attention: Bakersfield RMP.

• Mail: Bakersfield RMP, BLM Bakersfield Field Office, 3801 Pegasus Drive, Bakersfield, California 93308.

Copies of the Bakersfield Draft RMP/Draft EIS are available in the Bakersfield FO at the above address; the California State Office at 2800 Cottage Way, Suite W 1834, Sacramento, CA 95825; and at the BLM's Web site http://www.ca.blm.gov/bakersfield.

FOR FURTHER INFORMATION CONTACT: For further information contact Sue Porter, Bakersfield Planning & Environmental Coordinator, telephone: (661) 391-6000 or the Bakersfield FO RMP line at (661) 391-6022; address: Bakersfield Field Office, 3801 Pegasus Drive, Bakersfield, California 93308; e-mail: cacalrmp@ca.blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft RMP/Draft EIS addresses public land and resources managed by the Bakersfield FO in an 8 county, 17 million acre region of central California in Kings, San Luis Obispo, Santa Barbara, Tulare, Ventura, Madera, eastern Fresno, and western Kern counties. The Bakersfield RMP will replace the 1997 Caliente RMP and the 1984 Hollister RMP, as amended, for the management of approximately 404,000 acres of public land and 1.2 million acres of Federal mineral estate. The Bakersfield RMP does not address management of the California Coastal National Monument or the Carrizo Plain National Monument. Planning decisions in the RMP will apply only to the BLM-administered public lands and mineral estate in the planning area.

The purpose of the Bakersfield RMP is to establish goals, objectives, and management actions for BLM public lands that address current issues, knowledge, and conditions. The Draft RMP/Draft EIS has been developed with broad public participation in accordance with FLPMA and NEPA. Preliminary planning issues were presented for public review and comment in the March 2008 Federal Register Notice of Intent (NOI); additional public comments were solicited through scoping letters, meetings, and the RMP Web site. Six planning issues were identified through the scoping process: (1) Access and availability of public lands for recreational and open spaces; (2) balance between the travel network and protection of natural and cultural resources; (3) protection of threatened and endangered species, critical habitat, other biological resources, cultural and paleontological resources in a multiple-use environment; (4) livestock grazing management to provide for economic benefit, rural lifestyles and vegetation management while protecting other resources; (5) balance between energy development and other land use authorizations with resource values; and (6) climate change.

The Draft RMP/Draft EIS includes five management alternatives:

• The No Action alternative (Alternative A) would continue current management under the existing 1997 Caliente RMP and 1984 Hollister RMP, as amended.

• Alternative B balances resource conservation and ecosystem health with the production of commodities and public use of the land. Alternative B is the Preferred Alternative.

• Alternative C emphasizes conserving cultural and natural resources, maintaining functioning natural systems, and restoring natural systems that are degraded.

• Alternative D follows Alternative C in all aspects except Alternative D eliminates livestock grazing from BLM managed lands in the planning area.

• Alternative E emphasizes the production of natural resources, commodities and public use opportunities.

The Preferred Alternative has been identified as described in 40 CFR 1502.14(e). Identification of this alternative, however, does not represent final agency direction, and the Proposed RMP may reflect changes or adjustments based on information received during public comment, from new information, or from changes in BLM policies or priorities. The Proposed RMP may include objectives and actions described in the other analyzed alternatives. For this reason, the BLM invites and encourages comments on all alternatives, objectives, and actions described in the Draft RMP/Draft EIS.

Pursuant to 43 CFR 1610.7-2(b), this notice announces a concurrent public comment period on proposed ACECs. Ten new ACEC designations are proposed and five existing ACECs have proposed boundary changes:

Ancient Lakeshores (1,985 acres): This proposal combines the existing 402-acre Alkali Sink and 40-acre Goose Lake ACECs with lands at Atwell Island. Relevant values are cultural, special status species (wildlife and plants), and plant community. Proposed limitations address land use authorizations, livestock grazing, mineral development and recreation.

Bitter Creek (6,121 acres): This newly proposed ACEC contains relevant values of special status wildlife species. Proposed limitations address land use authorizations, mineral development and recreation. Other restrictions include closing public access to lands adjacent to a national wildlife refuge.

Compensation Lands (283 acres): Relevant values for this newly proposed ACEC are special status wildlife and plant species. Proposed limitations address land use authorizations, livestock grazing, mineral development, and recreation. Other restrictions include management to benefit species identified in applicable US Fish and Wildlife Service or California Department of Fish and Game biological opinions, agreements, or other documents.

Cyrus Canyon (5,374 acres): Relevant values for this newly proposed ACEC are special status plant species. Proposed limitations address land use authorizations, livestock grazing, mineral development and recreation.

Erskine Creek (4,019 acres): Relevant values for this newly proposed ACEC are special status wildlife and plant species, geologic, and riparian. Proposed limitations address land use authorizations, livestock grazing, mineral development and recreation.

Granite Cave (42 acres): Relevant values for this newly proposed ACEC are cultural and geologic. Proposed limitations address land use authorizations and mineral development. Other restrictions include prohibited public access.

Hopper Mountain (4,974 acres): Relevant values for this newly proposed ACEC are special status wildlife species. Proposed limitations address land use authorizations, livestock grazing, mineral development, and recreation. Other restrictions include potentially restricting public access during condor use periods.

Irish Hills (1,654 acres): Relevant values for this newly proposed ACEC are special status plant species and rare plant communities. Proposed limitations address land use authorizations, livestock grazing, mineral development, and recreation.

Kaweah (27,041 acres): This proposal incorporates an expansion of the existing 26,468-acre Case Mountain ACEC with the North Fork of the Kaweah River. Relevant values are cultural, historic, special status wildlife and plant species, geologic, and riparian. Proposed limitations address land use authorizations, livestock grazing, mineral development, and recreation. Other restrictions include closure or seasonal restrictions to recreation sites along the North Fork of the Kaweah River.

Kettleman Hills (13,695 acres): This proposal expands the existing ACEC through the addition of 3,901 acres. Relevant values are special status wildlife species, paleontological, and plant community. Proposed limitations address land use authorizations, mineral development, and recreation.

Lokern-Buena Vista (15,465 acres): This proposal combines the existing Lokern ACEC with an additional 8,833 acres in the Buena Vista Hills. Relevant values are special status wildlife and plant species and plant community. Proposed limitations address land use authorizations, mineral development, and recreation.

Los Osos (5 acres): Relevant values for this newly proposed ACEC are cultural, special status wildlife and plant species, and plant community. Proposed limitations address land use authorizations, livestock grazing, mineral development, and recreation. Other restrictions include limiting public access to pedestrians; cross-country travel would be prohibited.

Piute Cypress (2,517 acres): This proposal expands the existing ACEC by 1,413 acres. Relevant values are special status plant species. Proposed limitations address land use authorizations, livestock grazing, mineral development, and recreation.

Rusty Peak (787 acres): Relevant values for this newly proposed ACEC are special status plant species and rare plant community. Proposed limitations address land use authorizations, livestock grazing and mineral development.

Upper Cuyama Valley (8,935 acres): Relevant values for this newly proposed ACEC are special status wildlife and plant species. Proposed limitations address land use authorizations, livestock grazing, mineral development, and recreation.

Alternative B, the Preferred Alternative, proposes ACEC designation for Ancient Lakeshores; Bitter Creek; Blue Ridge; Compensation Lands; Cypress Mountain; Cyrus Canyon; Erskine Creek; Hopper Mountain; Horse Canyon; Kaweah; Kettleman Hills; Lokern-Buena Vista; Los Osos; Piute Cypress; Point Sal; Tierra Redonda; and Upper Cuyama Valley for a total of 99,619 acres proposed to be managed as ACECs.

Lands with wilderness characteristics are addressed in accordance with Section 201 and 202 of FLPMA. The Preferred Alternative would protect approximately 3,470 acres of lands with wilderness characteristics.

Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Thomas Pogacnik,
Deputy State Director, Natural Resources.

Authority: 40 CFR 1506.6, 1506.10, and 43 CFR 1610.2.

[FR Doc. 2011-22961 Filed 9-7-11; 8:45 am]

BILLING CODE 4310-40-P